GENERAL SERVICES ADMINISTRATION

[Notice-MG-2021-02; Docket No. 2021-0002; Sequence No. 5]

Office of Federal High-Performance Green Buildings; Green Building Advisory Committee; Notification of Upcoming Web-Based Meetings

AGENCY: Office of Government-wide Policy, General Services Administration (GSA).

ACTION: Notice of public meetings.

SUMMARY: Notice of these web-based public meetings/conference calls is being provided according to the requirements of the Federal Advisory Committee Act. This notice provides the schedule for a series of web-based meetings for two task groups of the Green Building Advisory Committee (Committee), as well as one full Committee meeting, which are all open to the public. Interested individuals must register to attend and provide public comment as instructed below under SUPPLEMENTARY INFORMATION.

DATES: The Environmental Justice and Equity for Federal Green Buildings Task Group will hold recurring web-based meetings on Tuesdays from April 6, 2021, through November 16, 2021, from 4:00 p.m. to 5:00 p.m., Eastern Time (ET).

The Federal Building Decarbonization Task Group will hold recurring web-based meetings on Mondays from April 5, 2021, through November 15, 2021, from 3:00 p.m. to 4:00 p.m., ET.

The Green Building Advisory Committee will hold a web-based meeting on Wednesday, June 23, 2021, from 2:00 p.m. to 5:00 p.m.

FOR FURTHER INFORMATION CONTACT: Dr. Ken Sandler, Designated Federal Officer, Office of Federal High-Performance Green Buildings, Office of Government-wide Policy, General Services Administration, 1800 F Street NW, (Mail-code: MG), Washington, DC 20405, at ken.sandler@gsa.gov or 202-219-1121. Additional information about the Committee, including meeting materials and agendas, will be available on-line at http://www.gsa.gov/gbac.

SUPPLEMENTARY INFORMATION:

Procedures for Attendance and Public Comment

Contact Dr. Ken Sandler, at ken.sandler@gsa.gov, to register to attend any of these public web-based meetings. To register, submit your full name, organization, email address, phone number, and which meeting(s) you would like to attend. Requests to attend the web-based meetings must be received by 5:00 p.m. ET, on Monday, April 5, 2021. Meeting call-in information will be provided to interested parties who register by the deadline. (GSA will be unable to provide technical assistance to any listener experiencing technical difficulties. Testing access to the web-based meeting site before the meetings is recommended.) Contact Dr. Sandler to register to provide public comment during the June 23, 2021 meeting public comment period. Registered speakers/organizations will be allowed a maximum of five minutes each and will need to provide written copies of their presentations. Requests to provide public comment at the Committee meeting must be received by 5:00 p.m., ET, on Monday, June 7, 2021.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

The Environmental Justice and Equity for Federal Green Buildings Task Group will identify and propose effective approaches to improve environmental justice and equity in federal sustainable building processes, enhancing engagement with communities and key partners throughout the building lifecycle.

The Federal Building Decarbonization Task Group will explore opportunities and challenges for reducing greenhouse gas emissions, in alignment with national climate goals and action plans, through the use of renewable energy, energy efficiency, electrification and smart building technologies at federal facilities.

These web-based meetings will allow the task groups to develop consensus recommendations for deliberation by the full Committee, which will, in turn, decide whether to proceed with formal advice to GSA based upon these recommendations.

June 23, 2021 Meeting Agenda

• Updates and introductions

• Energy Storage Task Group: Findings & recommendations

• Environmental Justice and Equity Task Group: Interim findings

• Federal Building Decarbonization Task Group: Interim findings

• Public comment

• Next steps and closing comments

Kevin Kampschroer,
Federal Director, Office of Federal High-Performance Green Buildings, Office of Government-wide Policy, General Services Administration.

[FR Doc. 2021-06221 Filed 3-25-21; 8:45 am]

BILLING CODE 6820-14-P